SMALL BUSINESS ADMINISTRATION

[Disaster Declaration #10557 and #10558]

Ohio Disaster #OH-00007

AGENCY: Small Business Administration.

ACTION: Notice.

SUMMARY: This is a Notice of the Presidential declaration of a major disaster for the State of Ohio (FEMA-1656-DR), dated 08/01/2006.

Incident: Severe Storms, Straight Line Winds, and Flooding.

Incident Period: 07/27/2006 and continuing.

Effective Date: 08/01/2006.

Physical Loan Application Deadline Date: 10/02/2006.

Economic Injury (EIDL) Loan Application Deadline Date: 05/01/2007.

ADDRESSES: Submit completed loan applications to: U.S. Small Business Administration, National Processing And Disbursement Center, 14925 Kingsport Road, Fort Worth, TX 76155.

FOR FURTHER INFORMATION CONTACT: A. Escobar, Office of Disaster Assistance, U.S. Small Business Administration, 409 3rd Street, SW., Suite 6050, Washington, DC 20416.

SUPPLEMENTARY INFORMATION: Notice is hereby given that as a result of the President's major disaster declaration on 08/01/2006, applications for disaster loans may be filed at the address listed above or other locally announced locations.

The following areas have been determined to be adversely affected by the disaster:

Primary Counties (Physical Damage and Economic Injury Loans):

Ashtabula, Geauga, Lake.

Contiguous Counties (Economic Injury Loans Only):

Ohio: Cuyahoga, Portage, Summit, Trumbull.

Pennsylvania: Crawford, Erie.

The Interest Rates are:

| Percent
For Physical Damage:
Homeowners with Credit Available Elsewhere | 6.250
Homeowners without Credit Available Elsewhere | 3.125
Businesses with Credit Available Elsewhere | 7.934
Other (Including Non-Profit Organizations) with Credit Available Elsewhere | 5.000
Businesses and Non-Profit Organizations without Credit Available Elsewhere | 4.000
For Economic Injury:
Businesses & Small Agricultural Cooperatives without Credit Available Elsewhere | 4.000
The number assigned to this disaster for physical damage is 10557 B and for economic injury is 10558 0.

(Catalog of Federal Domestic Assistance Numbers 59002 and 59008)

Herbert L. Mitchell,
Associate Administrator for Disaster Assistance.

[FR Doc. E6-12917 Filed 8-8-06; 8:45 am]

BILLING CODE 8025-01-P